DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0166.

Project: Government Performance and Results Act (GPRA) Client/Participant Outcomes Measure—(OMB No. 0930-0208)—Revision

SAMHSA is requesting approval for a revision of the CSAT Client-level GPRA instrument to continue the collection of performance and program monitoring data of its substance use services grant programs. Currently, the information collected from this instrument is entered and stored in SAMHSA's Performance Accountability and Reporting System (SPARS). SPARS is a real-time, performance management system that captures information on the substance use services and mental health services delivered through SAMHSA's grant programs across the United States. Continued approval of this information collection will allow SAMHSA to continue to meet Government Performance and Results Modernization Act of 2010 reporting requirements that quantify the effects and accomplishments of its discretionary grant programs, which are consistent with OMB guidance.

SAMHSA will use the data for annual performance reporting required by GPRA and comparing baseline with discharge and follow-up data. The additional information collected through this process will allow SAMHSA to: (1) report results of these performance outcomes; (2) maintain consistency with SAMHSA-specific performance domains, and (3) assess the performance of its discretionary and formula grant programs.

Currently, there are 379,037 total burden hours in the OMB-approved CSAT Client-level GPRA instrument. SAMHSA is now requesting an increase to 631,682 burden hours. The increase of 252,645 burden hours is due to the following:

• Additional time allocated for interviews, but also improved estimates of the number of clients who would likely consent to complete the interview; and

• Additional time allocated for administrative collection of data by grantees, including the information that is collected for all clients regardless of whether they completed the client-portion of the interview or not.

The estimated time to complete the baseline, follow-up, and discharge interviews is 45 (0.75) minutes each. This includes the completion of the administrative sections of the tool for all clients including those who decline an interview. The estimated time to complete the SBIRT program-specific measures was increased from 12 (0.2) minutes to 15 minutes (0.25).

Table 1—Estimates of Annualized Hour Burden
SAMHSA tool | Number of respondents | Responses per respondent | Total number of responses | Burden hours per response | Total burden hours | Hourly wage ¹ | Total hour cost
Baseline Interview Includes SBIRT Brief TX, Referral to TX, and Program-specific questions | 337,857 | 1 | 337,857 | 0.75 | 253,393 | $28.89 | $7,320,523
Follow-Up Interview with Program-specific questions ² | 270,286 | 1 | 270,286 | 0.75 | 202,715 | 28.89 | 5,856,436
Discharge Interview with Program-specific questions ³ | 175,686 | 1 | 175,686 | 0.75 | 131,765 | 28.89 | 3,806,431
SBIRT Program—Screening Only | 150,296 | 1 | 150,296 | 0.17 | 25,550 | 28.89 | 738,140
SBIRT Program—Brief Intervention Only Baseline | 31,481 | 1 | 31,481 | 0.25 | 7,870 | 28.89 | 227,364
SBIRT Program—Brief Intervention Only Follow-Up ² | 25,184 | 1 | 25,184 | 0.25 | 6,296 | 28.89 | 181,891
SBIRT Program—Brief Intervention Only Discharge ³ | 16,370 | 1 | 16,370 | 0.25 | 4,093 | 28.89 | 118,247
CSAT Total | 1,007,160 |  | 1,007,160 |  | 631,682 |  | 18,249,032
¹ The hourly wage estimate is $28.89 based on the Occupational Employment and Wages, Mean Hourly Wage Rate for 21-1011 Substance Abuse and Behavioral Disorder Counselors = $28.89/hr. as of May 11, 2023. (http://www.bls.gov/oes/current/oes211011.htm. Accessed on June 20, 2024.)
² It is estimated that 80% of baseline clients will complete this interview.
³ It is estimated that 52% of baseline clients will complete this interview. This estimate is based on Substance Abuse and Mental Health Services Administration (SAMHSA): Treating Concurrent Substance Use Among Adults. SAMHSA Publication No. PEP21-06-02-002. Rockville, MD: National Mental Health and Substance Use Policy Laboratory. Substance Abuse and Mental Health Services Administration, 2021.
Note: Numbers may not add to the totals due to rounding and some individual participants completing more than one form.

Written comments and recommendations for the proposed information collection should be sent within 30 days of publication of this notice to www.reginfo.gov/public/do/PRAMain. Find this information collection by selecting “Currently under 30-day Review—Open for Public Comments” or by using the search function.

Alicia Broadus,
Public Health Advisor.

[FR Doc. 2024-26785 Filed 11-15-24; 8:45 am]

BILLING CODE 4162-20-P